DEPARTMENT OF LABOR

Employment and Training Administration

[TA-W-54,709]

Summitville Tiles, Inc., Minerva, OH; Notice of Revised Determination on Reconsideration

On July 21, 2004, the Department of Labor issued an affirmation determination regarding the request for reconsideration of eligibility for workers and former workers of Summitville Tiles, Inc., Minerva, Ohio, to apply for Trade Adjustment Assistance (TAA) and Alternative Trade Adjustment Assistance (ATAA). The Department's determination notice was published in the Federal Register on August 4, 2004 (69 FR 47183). The initial petition denial was based on the finding that the subject firm did not separate or threaten to separate a significant number or proportion of workers during the relevant time period.

During the reconsideration investigation, the Department reviewed the Business Confidential Data Request which revealed that sales and production of ceramic tiles at the subject facility decreased during the relevant time periods.

A review of newly submitted information revealed that employment levels at the subject company declined during the relevant time period and that the subject company did not import any like or directly competitive products during the relevant time period. A customer survey was not conducted due to the number of subject company's customers.

Aggregate data shows a significant increase of ceramic tile imports during January-May 2004 from January-May 2003 levels.

Additional investigation has determined that the workers possess skills that are not easily transferable. A significant number or proportion of the worker group are age fifty years or over. Competitive conditions within the industry are adverse.

Conclusion

After careful review of the additional facts obtained on reconsideration, I conclude that increased imports of articles like or directly competitive with those produced at the subject firm contributed importantly to the declines in sales or production and to the total or partial separation of workers at the subject firm. In accordance with the provisions of the Act, I make the following certification:

All workers of Summitville Tiles, Inc., Minerva, Ohio, who became totally or partially separated from employment on or after April 13, 2003, through two years from the date of this certification, are eligible to apply for adjustment assistance under section 223 of the Trade Act of 1974 and are also eligible to apply for alternative trade adjustment assistance under section 246 of the Trade Act of 1974.

Signed in Washington, DC, this 10th day of August, 2004.
Linda G. Poole,
Certifying Officer, Division of Trade Adjustment Assistance.

[FR Doc. 04-19097 Filed 8-19-04; 8:45 am]

BILLING CODE 4510-30-P